DEPARTMENT OF AGRICULTURE

Food and Nutrition Service

Agency Information Collection Activities; Comments Requested: USDA National Hunger Clearinghouse Database Form (FNS 543)

AGENCY: Food and Nutrition Service (FNS), Department of Agriculture (USDA).

ACTION: Notice.

SUMMARY: In accordance with the Paperwork Reduction Act of 1995, this notice invites the general public and other public agencies to comment on this proposed information collection. This is a revision of a currently approved information collection form that organizations fighting hunger and poverty fill out to keep their information up to date for use by the general public.

DATES: Written comments must be received on or before January 6, 2025.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Jimmy Nguyen, Food and Nutrition Service, U.S. Department of Agriculture, 1320 Braddock Place, 7th Floor, Alexandria, VA 22314. Comments may also be submitted via email to Jimmy.Nguyen@fns.usda.gov. Comments will also be accepted through the Federal eRulemaking Portal. Go to https://www.regulations.gov, and follow the online instructions for submitting comments electronically. Comments will also be accepted through the Federal eRulemaking Portal.

All responses to this notice will be summarized and included in the request for Office of Management and Budget approval. All comments will be a matter of public record.

FOR FURTHER INFORMATION CONTACT: Requests for additional information or copies of this information collection should be directed to Jimmy Nguyen at 703-305-2530.

SUPPLEMENTARY INFORMATION:

Title: USDA National Hunger Clearinghouse Database Form.

Form Number: FNS-543.

OMB Number: 0584-0474.

Expiration Date: 4/30/2025.

Type of Request: Revised Collection.

Abstract: Section 26(d) of the Richard B. Russell National School Lunch Act (42 U.S.C. 1769g (d)) (the Act), which was added to the Act by section 123 of Public Law 103-448 on November 2, 1994, mandated that FNS enter into a contract with a non-governmental organization to establish and maintain an information clearinghouse (named “USDA National Hunger Clearinghouse” or “Clearinghouse”) for groups that assist low-income individuals or communities regarding nutrition assistance programs or other assistance. Section 26(d) of this Act was most recently amended by the Consolidated Appropriations Act of 2024 (Pub. L. 118-42) on March 9, 2024, to extend funding for the Clearinghouse through fiscal year 2024. FNS recently awarded another five-year contract (one year with four options) to the hunger advocacy organization Hunger Free America on May 17, 2024. Hunger Free America has had this contract since 2015.

The Clearinghouse includes a database of non-governmental, grassroots organizations in the areas of hunger and nutrition, along with a mailing list to communicate with these organizations. These organizations provide their information and Clearinghouse staff use that information to provide the public with information about where they can get food assistance. Previously, the Clearinghouse used a form (FNS-543) that was downloaded from the Clearinghouse website, filled out, and submitted back to the Clearinghouse to enter into the database. For the past several years, however, the Clearinghouse has been using an electronic form (available at https://www.tfaforms.com/4821149) which automatically links to the Clearinghouse's database. This new process reduces burden on organizations, by avoiding the need for them to download the FNS-543 form, fill it out, and then submit it to the Clearinghouse; and for Clearinghouse staff, as they no longer need to manually enter the information. FNS acknowledges that the online form the Clearinghouse currently uses does not have the required burden information and OMB approval although many elements from the approved form are present on the online form. FNS will ensure that appropriate burden and OMB approval information is added to the online form. Information was obtained from the Clearinghouse to provide estimates for future collections and the following information was determined:

Affected Public: Respondent groups identified include (1) Food banks—Not for Profit, and (2) Other Not For Profit. Most of these groups are organizations providing nutrition assistance services to the public.

Estimated Number of Respondents: 600.

Estimated Number of Responses per Respondent: Each respondent is expected to only participate in one survey.

Estimated Total Annual Responses: 600.

Estimated Time per Response: 4 minutes (0.0667 hours).

Estimated Total Annual Burden on Respondents: 2,401.20 minutes (40.02 hours).

See the table below for estimated total annual burden for each type of respondent.

Respondent | Estimated number respondent | Responses annually per respondent | Total annual responses (Col. bxc) | Estimated avg. number of hours per response | Estimated total hours (col. dxe)
Reporting Burden
Food Banks (Not for Profit) | 400 | 1 | 400 | 0.0667 | 26.86
Other Not For Profit | 200 | 1 | 200 | 0.0667 | 13.34
Total Reporting Burden | 600 |  | 600 |  | 40.02

Tameka Owens,
Acting Administrator and Assistant Administrator, Food and Nutrition Service.

[FR Doc. 2024-25833 Filed 11-6-24; 8:45 am]

BILLING CODE 3410-30-P